DEPARTMENT OF TRANSPORTATION

Federal Aviation Administration

[Docket No. FAA-2025-0703]

Agency Information Collection Activities: Requests for Comments; Clearance of Renewed Approval of Information Collection: Operations Specifications, Part 129 Application

AGENCY: Federal Aviation Administration (FAA), DOT.

ACTION: Notice and request for comments.

SUMMARY: In accordance with the Paperwork Reduction Act of 1995, FAA invites public comments about our intention to request the Office of Management and Budget (OMB) approval to renew information collection. The FAA assesses the information collected and issues operations specifications to foreign air carriers. These operations specifications assure the foreign air carrier's ability to navigate and communicate safely within the U.S. National Airspace System.

DATES: Written comments should be submitted by March 17, 2026.

ADDRESSES: Please send written comments:

By Electronic Docket: www.regulations.gov (Docket No. FAA-2025-0703).

By email: danuta.pronczuk@faa.gov. In the email subject enter: comments on Docket No. FAA-2025-0703.

FOR FURTHER INFORMATION CONTACT: Danuta Pronczuk by email at: danuta.pronczuk@faa.gov; phone: 202-267-0923.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0749.

Title: Operations Specifications, Part 129 Application.

Form Numbers: There are no FAA forms associated with this collection. Information needed by the FAA is publicly available in the Dynamic Regulatory System (DRS). Once in DRS go to: FAA Order 8900.1 Volume 12, Chapter 4.

Type of Review: Renewal of an information collection.

Background: The final rule published in 2011,¹ clarified and standardized the rules for applications by foreign air carriers and foreign persons for operations specifications issued under 14 CFR part 129 and established standards for amendment, suspension and termination of those operations specifications. The final rule also applied to foreign air carriers and foreign persons operating U.S.-registered aircraft in common carriage solely outside the United States. This action was necessary to update the process for issuing operations specifications, and it established a regulatory basis for current practices, such as amending, terminating, and suspending operations specifications.

¹ The final rule was published on February 10, 2011 (76 FR 7482). Corrections to the final rule were published on March 21, 2011 (76 FR 15212).

Respondents: Approximately 36 new applicants annually and 511 existing foreign air carriers and foreign persons annually.

Frequency: Information is collected on occasion.

Estimated Average Burden per Response: 27 Hours for new applicants. 47 hours for existing applicants.

Estimated Total Annual Burden: 972 hours for new applicants and 24, 017 hours for existing applicants.

Issued in Washington, DC, on January 13, 2026.
Carl N. Johnson,
Division Manager, International Program Division, Flight Standards Service.

[FR Doc. 2026-00777 Filed 1-15-26; 8:45 am]

BILLING CODE 4910-13-P